FEDERAL COMMUNICATIONS COMMISSION

[DA 20-576]

Media Bureau Announces Settlement Opportunity for Mutually Exclusive Low Power Television and TV Translator Applications—June 1, 2020-July 31, 2020

AGENCY: Federal Communications Commission.

ACTION: Notice.

SUMMARY: The Media Bureau has pending before it the mutually exclusive applications for new or modified digital low power television and television translator stations (LPTV/translator stations) listed in the Appendix to this Public Notice. Parties with applications in the mutually exclusive groups listed in the Appendix may resolve their mutual exclusivity by unilateral engineering amendment, legal settlement, or engineering settlement during a settlement period beginning today, June 1, 2020 and ending at 11:59 p.m. ET, July 31, 2020.

DATES: The settlement period will open June 1, 2020 and close on July 31, 2020 at 11:59 p.m. ET.

FOR FURTHER INFORMATION CONTACT: Mark Colombo (technical questions), Mark.Colombo@fcc.gov, (202) 418-7611, or Shaun Maher (legal questions), Shaun.Maher@fcc.gov, (202) 418-2324, of the Video Division, Media Bureau.

SUPPLEMENTARY INFORMATION: The applications listed in the Appendix to the Public Notice are subject to the Commission's competitive bidding procedures unless their mutual exclusivity is resolved. The Media Bureau will withhold further action on the mutually exclusive applications listed in the Appendix pending submission of settlement agreements or engineering amendments to resolve mutual exclusivity prior to the close of the settlement period.

Unilateral Engineering Amendments. Applicants may resolve their mutual exclusivity by filing an engineering amendment to their application. An amendment that does not implicate the application of another station may be filed by the station during the settlement period without coordination with any other entity. All such amendments must be submitted by filing an amended FCC Form 2100—Schedule C in the Media Bureau's Licensing and Management System (LMS) by 11:59 p.m. ET on July 31, 2020. Engineering amendments submitted by applicants to unilaterally resolve their mutual exclusivity must be minor, as defined by the applicable rules, and must not create new mutual exclusivities or application conflicts.

Legal Settlements. Applicants may also resolve their mutual exclusivity through a legal settlement that provides for the dismissal of one or more of the application(s) in their mutually exclusive group. Such agreements must be submitted for Commission approval. Parties submitting a legal settlement for approval must ensure that their agreements comply with the provisions of section 311(c) of the Communications Act of 1934, as amended, and the pertinent requirements of section 73.3525 of the Commission's rules, including, inter alia, the settlement reimbursement restrictions. Parties filing a request for approval of settlement agreement must include a copy of their agreement and: (1) A statement outlining the reasons why such agreement is in the public interest; (2) a statement that each party's application was not filed for the purpose of reaching or carrying out such agreement; (3) a certification that neither the dismissing applicant nor its principals has received any money or other consideration in excess of the legitimate and prudent expenses of the applicant; (4) a statement outlining the exact nature and amount of any consideration paid or promised; (5) an itemized accounting of the expenses for which it seeks reimbursement; and (6) the terms of any oral agreement relating to the dismissal or withdrawal of its application. Requests for approval of settlement agreement and the above-outlined documents required by section 73.3525 must be submitted in the form of an amendment to each party's pending application in LMS by 11:59 p.m. ET on July 31, 2020.

Engineering Settlements. Applicants may also enter into a settlement agreement to resolve their mutual exclusivity by means of an engineering solution. As with unilateral engineering amendments, engineering settlements must be minor, as defined by the applicable rules, and must not create new mutual exclusivities or application conflicts. Such settlements may include proposing channel sharing as means to resolve their mutual exclusivity. Engineering settlement agreements must also be filed with the Commission for approval and must include the documentation required by section 73.3525. Requests for approval of engineering settlement agreements, accompanying documentation, and corresponding technical amendments must be submitted in the form of an amendment to each party's pending application in LMS by 11:59 p.m. ET on July 31, 2020. In the case of channel sharing settlements, the proposed sharee station shall file to modify its current license, specifying the technical parameters in the proposed host station's application and request that its application be dismissed upon grant of the channel sharing.

Applicants entering into engineering settlements should endeavor, wherever possible, to resolve their mutual exclusivity through minor engineering amendments, as defined by the applicable rules. However, applicants that are unable to resolve their mutual exclusivity through a minor engineering amendment may, as part of their engineering settlement, amend their application(s) to propose a new available channel. The new channel proposal may not create a new mutual exclusivity or conflict with any other previously-filed application.

Federal Communications Commission.
Thomas Horan,
Media Bureau.

[FR Doc. 2020-12282 Filed 6-5-20; 8:45 am]

BILLING CODE 6712-01-P